NATIONAL INDIAN GAMING COMMISSION

The National Environmental Policy Act Procedures Manual

AGENCY: The National Indian Gaming Commission.

ACTION: Notice of reopening of comment period.

SUMMARY: This notice reopens the period for comments on the Draft NEPA Procedures Manual published in the Federal Register on December 4, 2009 (74 FR 63765-74 FR 63787). Previously, the Commission reopened the comment period from January 19, 2010, to March 4, 2010 (75 FR 3756).

DATES: The comment period for the Draft NEPA Procedures Manual is being reopened from March 4, 2010, to April 15, 2010.

ADDRESSES: Please submit your comments by only one of the following means: (1) By mail to: Brad Mehaffy, National Indian Gaming Commission, 1441 L Street, NW., Suite 9100, Washington, DC 20005; (2) by hand delivery to: National Indian Gaming Commission, 1441 L Street, NW., Suite 9100, Washington, DC 20005; (3) by facsimile to: (202) 632-7066; (4) by e-mail to: nepa_procedures@nigc.gov; or (5) online at http://www.regulations.gov.

FOR FURTHER INFORMATION CONTACT: Bradley Mehaffy, NEPA Compliance Officer at the National Indian Gaming Commission: 202-632-7003 or by facsimile at 202-632-7066 (not toll-free numbers).

SUPPLEMENTARY INFORMATION: In response to several requests, the Acting Chairman of the National Indian Gaming Commission has decided to reopen again the comment period on the Draft NEPA Procedures Manual. The comment period now will close April 15, 2010.

George T. Skibine,
Acting Chairman.

[FR Doc. 2010-5872 Filed 3-17-10; 8:45 am]

BILLING CODE 7565-02-P